DEPARTMENT OF DEFENSE

National Defense University

Eighth Annual National Security Education Program (NSEP) Institutional Grants Competition

AGENCY: National Defense University, National Security Education Program (NSEP), DoD.

ACTION: Notice.

SUMMARY: The NSEP announces the opening of its eighth Annual Competition for Grants to U.S. Institutions of Higher Education.

DATES: The 2001 NSEP Grants Competition begins on Monday, February 5, 2001. Preliminary five-page proposals are due Monday, April 9, 2001.

ADDRESSES: Grants Solicitations (applications and guidelines) will be available and may be downloaded from the NSEP home page (http://www.ndu.edu/nsep) beginning Monday, February 5, 2001. As alternate methods, you may obtain copies of the solicitation package by writing to: NSEP, Institutional Grants, Rosslyn PO Box 20010, 1101 Wilson Blvd, Suite 1210, Arlington, VA 22209-2248; by facsimile request (703) 696-5667; or by sending an electronic mail request to: nsepo@ndu.edu.

FOR FURTHER INFORMATION CONTACT: Carol Anne Spreen, Program Officer for Institutional Grants, National Security Education Program, 1101 Wilson Boulevard, Suite 1210, Arlington, Virginia 22209-2248; electronic mail address: spreenc@ndu.edu.

Dated: January 11, 2001.
Patricia L. Toppings,
Alternate OSD Federal Register Liaison Officer, Department of Defense.

[FR Doc. 01-3036 Filed 2-5-01; 8:45 am]

BILLING CODE 5001-10-M